DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of May 17, 2010 through May 21, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated have increased;

(C) Imports of articles directly incorporating one or more component parts produced outside the United States that are like or directly competitive with imports of articles incorporating one or more component parts produced by such firm have increased;

(D) Imports of articles like or directly competitive with articles which are produced directly using services supplied by such firm have increased; and

(4) The increase in imports contributed importantly to such workers' separation or threat of separation and to the decline in the sales or production of such firm; or

II. Under Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under Section 202(b)(1);

(B) An affirmative determination of market disruption or threat thereof under Section 421(b)(1); or

(C) An affirmative final determination of material injury or threat thereof under Section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under Section 202(f)(1) with respect to the affirmative determination described in paragraph (1)(A) is published in the Federal Register under Section 202(f)(3); or

(B) Notice of an affirmative determination described in subparagraph (1) is published in the Federal Register; and

(3) The workers have become totally or partially separated from the workers' firm within—

(A) The 1-year period described in paragraph (2); or

(B) Notwithstanding Section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-71,647: Vacumet Corporation, Scholle Corporation, Paper Division, Morristown, TN: July 13, 2008.

TA-W-71,795: Suburban Tool, Inc., DBA Taft-Pierce Metrology, Auburn Hills, MI: July 20, 2008.

TA-W-72,106: Gasbarre Products, Inc., Sinerite Furnace Division, St. Mary's, PA: August 15, 2008.

TA-W-72,186: Lebanon Apparel Corporation, Lebanon, VA: August 31, 2008.

TA-W-72,398: SAPA Extrusions, LLC, Delhi, LA: September 23, 2008.

TA-W-72,660: Turbine Engine Components Technologies Corporation, Tect Power Division, Newington, CT: October 19, 2008.

TA-W-72,919: Nelson Frames, Inc., Sophia, NC: November 20, 2008.

TA-W-72,920: Albany International Corp., Corrugator Belts Division, Menands, NY: November 11, 2008.

TA-W-73,035: Midwest Stamping, LLC, Brown Company of America, BHM Technologies, Leased Workers of Manpower, Edgerton, OH: November 15, 2008.

TA-W-73,190: Stanley Assembly Technologies, Stanley Black and Decker, On-site Independent Contractors, Cleveland, OH: December 29, 2008.

TA-W-73,195: PIAD Precision Casting Corporation, Greensburg, PA: December 29, 2008.

TA-W-73,211: Wapakoneta Machine Company, Wapakoneta, OH: December 8, 2008.

TA-W-73,215: Central Manufacturing Company, Lift-A-Loft Holding Company, Parker City, IN: January 6, 2009.

TA-W-73,359: Tardy-Connors Group, LLC, DBA Moosehead Furniture, Monson, ME: January 22, 2009.

TA-W-73,360: Mann+Hummel Advanced Filtration Concepts, Inc., Louisville, KY: January 21, 2009.

TA-W-73,373: FLSmidth Spokane, Inc., DBA Racho; Leased Workers from Humanix Staffing Services, Spokane, WA: January 27, 2009.

TA-W-73,382: Holcim (US) Inc., Corporate Division, Leased Workers Manpower and Office Team, Dundee, MI: January 2, 2009.

TA-W-73,444A: Geocycle, LLC, Holcim (US) Inc., Detroit, MI: January 8, 2009.

TA-W-73,444: Geocycle, LLC, Holcim (US) Inc., Dundee, MI: January 8, 2009.

TA-W-73,455: Chromalox, Strips and Rings Product Line, Leased Workers Kelly Services, Ogden, UT: February 3, 2009.

TA-W-73,494: Air-Way Manufacturing Company, Plants 1 and 2, Olivet, MI: February 9, 2009.

TA-W-73,562: Colville Indian Plywood and Veneer, Colville Tribal Enterprise Corporation Wood Products, Omak, WA: February 24, 2009.

TA-W-73,596: Colville Indian Precision Pine, Colville Tribal Enterprise Corporation Wood Products Division, Omak, WA: February 24, 2009.

TA-W-73,647: Cut Loose Inc., San Francisco, CA: March 3, 2009.

TA-W-73,691: R. E. Phelon Company, Inc., Leased Workers from Aiken Staffing and SC Vocation Rehabilitation, Aiken, SC: March 10, 2009.

TA-W-73,709: Kurrmi, Inc., New York, NY: March 1, 2009.

The following certifications have been issued. The requirements of Section 222(a)(2)(B) (shift in production or services) of the Trade Act have been met.

TA-W-72,160: Rohm and Haas Chemicals LLC, The Dow Chemical Co., Leased Workers Kelly Services, Philadelphia, PA: August 27, 2008.

TA-W-72,268: Ceridian Corporation, Human Resources Outsourcing Div., Kelly Services, Select Group, Morrisville, NC: August 28, 2008.

TA-W-72,742: Cooper Standard Automotive, Bowling Green Hose Fluids Division, Bowling Green, OH: November 2, 2008.

TA-W-73,054: Spirit AeroSystems, Inc., Information Technology Department, Wichita, KS: December 3, 2008.

TA-W-73,094: Trane Springhill, Division of Ingersoll Rand, Leased Workers of Remedy, Cullen, LA: December 11, 2008.

TA-W-73,106: Open Solutions, Inc., Harpoon Acquisition Corp., Leased Workers Lauren Staffing, Target Temps, Windsor Locks, CT: December 15, 2008.

TA-W-73,109: Dayco Products, LLC, Walterboro, SC: December 9, 2008.

TA-W-73,128: Apria Healthcare, Billing Center, Minnetonka, MN: December 21, 2008.

TA-W-73,191: HSBC Bank USA, Trade and Supply Chain (TSC) Department, Brooklyn, NY: December 22, 2008.

TA-W-73,239: Walbar, Inc., Leased Workers of Adecco and Outsource Technical, Chandler, AZ: January 8, 2009.

TA-W-73,245: Fiserv Fulfillment Services, Inc., ISGN Solutions, Inc., Title Insurance/Lien Release Dept., Rocky Hill, CT: January 11, 2009.

TA-W-73,246: Rexnord Gear, Horsham, PA: January 7, 2009.

TA-W-73,268: Hewlett-Packard, Enterprise Services, EDS; Leased Workers Pinnacle Technical Resources, Fort Worth, TX: January 12, 2009.

TA-W-73,315: Apria Healthcare, Southeast Private Pay Management Center, Jackson, TN: January 15, 2009.

TA-W-73,327: Bartlett Corporation, Leased Workers from Pro Resources and Staffmark, Muncie, IN: January 19, 2009.

TA-W-73,342: WestPoint Home, Inc., Engineering Office, Valley, AL: January 15, 2009.

TA-W-73,350: Pechiney Plastic Packaging, Inc. (PPPI), dba Alcan Packaging, Leased Workers Express Employment Professionals etc., Washington, NJ: February 1, 2009.

TA-W-73,375: Target Corporation, Accounts Payable Department, Leased Workers of CDI Corporation, Brooklyn Park, MN: January 27, 2009.

TA-W-73,437: Samuel, Son and Co., Midwest, Inc., Formerly Located in Detroit, Michigan, Troy, MI: January 27, 2009.

TA-W-73,461: Nationwide Mutual Insurance Company, Finance Shared Service Center, Nationwide Life Company, Grove City, OH: February 10, 2009.

TA-W-73,477A: International Game Technology (IGT), Casinolink, Engineering, Leased Workers from Appleone, HCLAmerica, etc., Carlsbad, CA: February 5, 2009.

TA-W-73,477: International Game Technology (IGT), Machine Accounting and ABS, Leased Workers from Appleone HCLAmerica, etc., Corvallis, OR: February 5, 2009.

TA-W-73,504: Telscape Communications, Inc., Customer Service, Monrovia, CA: February 16, 2009.

TA-W-73,516: Nifco America Corporation, Lavergne Manufacturing Plant, LaVergne, TN: February 17, 2009.

TA-W-73,528: Sara Lee Corporation, Information Technology Department, Leased Workers Adecco, Crossfire etc., Mason, OH: February 3, 2009.

TA-W-73,537: Peter Wolters of America, Leased Workers of Richmar, West Springfield, MA: February 10, 2009.

TA-W-73,549: Caterpillar, Inc., DBA Dyersburg Transmission Facility, Dyersburg, TN: February 22, 2009.

TA-W-73,555: Hewlett-Packard Company, Corporate Administration & Shared Services, Leased Workers Various States, Omaha, NE: February 17, 2009.

TA-W-73,570: The Wichita Eagle, McClatchy Company, Finance Division, Wichita, KS: February 15, 2009.

TA-W-73,575: Springs Window Fashions, LLC, Leased Workers from QTI Qualitemps, Middleton, WI: February 24, 2009.

TA-W-73,603: Apria Healthcare, Southeast-National Cash Processing Center, Morrisville, NC: March 1, 2009.

TA-W-73,604: Apria Healthcare, Great Lakes-Patient Pay Management Center, Minster, OH: March 1, 2009.

TA-W-73,605: Apria Healthcare, Great Lakes-Patient Pay Management Center, Indianapolis, IN: March 1, 2009.

TA-W-73,611: PricewaterhouseCoopers, LLP, Internal Firm Services Client Account Administrators Group, Boston, MA: March 2, 2009.

TA-W-73,616: Experian, Global Technology Services Division, Leased Workers from Tapfin, Allen, TX: March 1, 2009.

TA-W-73,623: LSI Corporation, Test and Product Engineering Group, Fort Collins, CO: March 3, 2009.

TA-W-73,627: Pratt and Whitney International Aerospace Tubes, LLC, Leased Workers Manpower Professional Services and Creative Financial, Indianapolis, IN: March 1, 2009.

TA-W-73,630: PricewaterhouseCoopers, LLP, Division of Internal Firm Services, Atlanta, GA: March 2, 2009.

TA-W-73,668: Swets Information Services, Operations Department, Runnemede, NJ: March 9, 2009.

TA-W-73,672: Continental Automotive Systems, Inc., Formerly Temic Automotive of North American, Inc., Elma, NY: April 16, 2010.

TA-W-73,675: Franklin Resources, Inc., Global Branding and Advertising Division, Leased Workers Kelly Services, San Mateo, CA: February 24, 2009.

TA-W-73,711: Air Products and Chemicals, Inc., Global Information Technology, Leased Workers of Kelly Vendor Management, Allentown (Trexlertown), PA: March 5, 2009.

TA-W-73,713: General Electric Company, Consumer and Industrial Division, Wire Department, Euclid, OH: March 3, 2009.

TA-W-73,746: PricewaterhouseCoopers LLP, Internal Firm Services Client Account Administrators Group, New York, NY: March 17, 2009.

TA-W-73,758: Bluescope Buildings North America, Laurinburg, NC: March 19, 2009.

TA-W-73,780: Toyota Tsusho America, Inc., Logistics and Manufacturing Support, Leased Workers From Prologistix, Memphis, TN: March 22, 2009.

TA-W-73,793: TCM America, Inc., Previously TCM USA Holdings, Inc., Leased Workers From Roper Personnel, West Columbia, SC: March 11, 2009.

TA-W-73,794: TCM America, Inc., Previously TCM USA Holdings, Inc., Leased Workers from Roper Personnel, Houston, TX: March 11, 2009.

TA-W-73,795: TCM America, Inc., Previously TCM USA Holdings, Inc., Leased Workers From Roper Personnel, Swedesboro, NJ: March 11, 2009.

TA-W-73,813: Fortis Plastics, LLC, Henderson Division, Henderson, KY: March 22, 2009.

TA-W-73,881: WM Coffman, LLC, P&F Industries, Marion, VA: April 7, 2009.

TA-W-73,883: Amphenol Sine Systems, Sine Systems Corporation and Amphenol, Leased Workers of Rita Staffing, Lake Wales, FL: April 8, 2009.

TA-W-74,017: AstenJohnson, Jonesboro Press, Jonesboro, GA: April 21, 2009.

The following certifications have been issued. The requirements of Section 222(c) (supplier to a firm whose workers are certified eligible to apply for TAA) of the Trade Act have been met.

TA-W-71,595A: Motion Control Industries, Inc., Carlisle Companies, Inc. Leased Workers from St. Louis Staffing, Charlottesville, VA: June 29, 2008.

TA-W-71,595: Motion Control Industries, Inc., Carlisle Companies, Inc. Leased Workers from St. Louis Staffing, South Hill, VA: June 29, 2008.

TA-W-71,737: Asyst Technologies, Inc., Austin Connectivity Software Group, Austin, TX: July 19, 2008.

TA-W-72,913: McNulty Hicken Smith, Inc., DBA MHSI, Inc., DBA Material Handling Systems, Inc., Rochester Hills, MI: October 26, 2008.

TA-W-72,918: Northeast Machine & Tool Company, Mt. Pleasant, TX: November 20, 2008.

TA-W-73,254: KS Automotive, Inc., Leased Workers from Snelling Personnel Services, San Leandro, CA: January 12, 2009.

TA-W-73,564: Thieman Stamping Company, Inc., New Bremen, OH: February 23, 2009.

TA-W-73,600: Kyowa America Corporation, Warehouse Department, Westminster, CA: March 1, 2009.

The following certifications have been issued. The requirements of Section 222(c) (downstream producer for a firm whose workers are certified eligible to apply for TAA) of the Trade Act have been met.

TA-W-73,535: Little Rock Express, Inc., Houlton, ME: February 19, 2009.

Negative Determinations for Worker Adjustment Assistance

In the following cases, the investigation revealed that the eligibility criteria for worker adjustment assistance have not been met for the reasons specified.

The investigation revealed that the criterion under paragraph (a)(1), or (b)(1), or (c)(1)(employment decline or threat of separation) of section 222 has not been met.

TA-W-73,033: Fujifilm Holdings Corporation, Valhalla, NY

TA-W-73,122: General Mills Services, Inc., A Subsidiary of General Mills, Inc., Golden Valley, MN.

TA-W-73,241: KPMG, LLP, Engagement Management Coordinator Group (EMC Group), Seattle, WA.

TA-W-73,438: Casa Decor, Sherman Oaks, CA.

The investigation revealed that the criteria under paragraphs (a)(2)(A)(i) (decline in sales or production, or both) and (a)(2)(B) (shift in production or services to a foreign country) of section 222 have not been met.

TA-W-73,346: Western Reserve Group, IT Department, Wooster, OH.

The investigation revealed that the criteria under paragraphs (a)(2)(A) (increased imports) and (a)(2)(B) (shift in production or services to a foreign country) of section 222 have not been met.

TA-W-72,045: Barfield, Inc., Miami, FL.

TA-W-72,417: Hewlett-Packard Company, Technology Services Division; Americas Software Manufacturing Group, Andover, MA.

TA-W-72,461: FutureWei Technologies, Inc., DBA Huawei Technologies (USA) Wireless Research and Standards Group, Plano, TX.

TA-W-72,528: JW Kitko & Sons Wood Products, Inc., Glen Hope, PA.

TA-W-72,541: TriMark Corporation, New Hampton, IA.

TA-W-72,546: Carlisle Tire and Wheel Company, Carlisle Companies, Carlisle, PA.

TA-W-72,719: Voith Paper Fabrics Appleton, Inc., Appleton, WI.

TA-W-72,794: Unitex Chemical Corporation, Greensboro, NC.

TA-W-72,926: Freescale Semiconductor, Inc., Libraries Group, Austin, TX.

TA-W-73,199: Dow Jones & Company, Sharon Pennsylvania Print Plant, News Corporation, West Middlesex, PA.

TA-W-73,201: Louisville Bedding Company, Munfordville, KY.

TA-W-73,334: GBR Systems Corporation, Chester, CT.

TA-W-73,361: Microsoft Corporation, Enterprise Experience Division (EXD), Issaquah, WA.

TA-W-73,388: Basic Energy Services, Rental and Fishing Tool Division, Sonora, TX.

TA-W-73,472: Porter's Wood Products, Inc., Boykins, VA.

TA-W-73,601: Semperian, Greeley Administration Center, Greeley, CO.

TA-W-73,626: Magna Powertrain of America, Inc., MPT Group Office, Troy, MI.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-73,674: Edward W. Daniel, LLC, Cleveland, OH.

TA-W-73,799: Appleseed's, Inc., Beverly, MA.

TA-W-73,803: Hewlett-Packard Company, Corporate Administration and Shared Services, Syracuse, NY.

TA-W-73,837: B. Braun Medical, Inc., Atlanta, GA.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W-73,296: The Montreal, Maine & Atlantic (MMA) Railway, Inc., Hermon, ME.

TA-W-73,838: Entree Alaska, Entree Canada Destinations, Inc., Langley, WA.

TA-W-73,879: Applied Materials, Inc., Quality and Reliability Division, Santa Clara, CA.

TA-W-74,031: Moore Flame Cutting Company, Sterling Heights, MI.

The following determinations terminating investigations were issued because the petitions are the subject of ongoing investigations under petitions filed earlier covering the same petitioners.

TA-W-73,677: Robert Bosch, LLC, Plymouth, MI.

TA-W-73,929: Chrysler Group, St. Louis North Assembly Plant, Fenton, MO.

I hereby certify that the aforementioned determinations were issued during the period of May 17, 2010 through May 21, 2010. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Date: May 26, 2010.
Elliott S. Kushner,
Certifying Officer, Division of Trade Adjustment Assistance.

[FR Doc. 2010-13508 Filed 6-4-10; 8:45 am]

BILLING CODE 4510-FN-P